DEPARTMENT OF COMMERCE

National Oceanic and Atmospheric Administration

RIN 0648-XG124

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Protected Species Advisory Committee (PSAC) meeting to review relevant sections of the draft 2017 annual Stock Assessment and Fishery Evaluation (SAFE) report for the Pacific Pelagic Fishery Ecosystem Plan (FEP), American Samoa Archipelago FEP, Hawaii FEP, Mariana Archipelago FEP and Pacific Remote Island Areas (PRIA) FEP. The PSAC will also receive updates on matters related to fishery management and may make recommendations on these topics.

DATES: The meetings will be held between 9 a.m. and 5 p.m. on April 19 and 20, 2018. For the agenda, see SUPPLEMENTARY INFORMATION.

ADDRESSES: The PSAC meeting will be held at the Council office, 1164 Bishop Street, Suite 1400, Honolulu, HI 96813, phone: (808) 522-8220.

FOR FURTHER INFORMATION CONTACT: Contact Kitty M. Simonds, Executive Director, Western Pacific Fishery Management Council; phone: (808) 522-8220.

SUPPLEMENTARY INFORMATION: Public comment periods will be provided throughout the agenda. The order in which agenda items are addressed may change and will be announced in advance at the meeting. The meeting will run as late as necessary to complete scheduled business.

Agenda

Thursday, April 19, 2018, 9 a.m. to 5 p.m.

1. Welcome and Introductions

2. Approval of Agenda

3. Status of the Fourth Protected Species Advisory Committee Meeting Recommendations

4. Endangered Species Act and Marine Mammal Protection Act Updates

5. Insular and Pelagic Non-Longline Fisheries Issues

A. Review of the Draft 2017 FEP Annual SAFE Report for Insular Fisheries

i. Summary of relevant fishery data

ii. Protected species section

iii. Discussion and synthesis

B. Review of the Draft 2017 FEP Annual SAFE Report for Pelagic Non-Longline Fisheries

i. Summary of relevant fishery data

ii. Protected species section

iii. Discussion and synthesis

C. Council Fishery Actions on Insular and Pelagic Non-Longline Fisheries

6. Council's Research Priorities

A. Five-year Research Priorities

B. Cooperative Research Priorities

C. Discussion

7. Public Comment

Friday, April 20, 2018, 9 a.m. to 5 p.m.

8. Pelagic Longline Fisheries Issues

A. Review of the Draft 2017 FEP Annual SAFE Report

i. Summary of relevant fishery data: 2017 Hawaii and American Samoa Logbook Reports

ii. 2017 Protected species section

iii. 2017 Albatross Workshop Report

iv. Olive ridley and leatherback turtle analysis

v. Developing a standardized metric to monitor protected species interactions

vi. Discussion and synthesis

B. Council Fishery Actions on Pelagic Longline Fisheries

i. Framework for Managing Sea Turtle Interactions in the Hawaii Shallow-set Longline Fishery

a. Overview of the action

b. Characterization of loggerhead turtle interactions in the Hawaii shallow-set longline fishery

c. Review of sea turtle impacts assessment approaches

ii. Other actions

C. Discussion on Emerging Issues, Data Gaps and Research Needs

9. Public Comment

10. Committee Discussion and Recommendations

11. Other Business and Next Meeting

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: March 27, 2018.
Jeffrey N. Lonergan,
Acting Deputy Director, Office of Sustainable Fisheries, National Marine Fisheries Service.

[FR Doc. 2018-06484 Filed 3-29-18; 8:45 am]

BILLING CODE 3510-22-P